DEPARTMENT OF COMMERCE

International Trade Administration

[C-570-942]

Certain Kitchen Appliance Shelving and Racks From the People's Republic of China: Extension of Time Limit for the Final Results of the Countervailing Duty Administrative Review

AGENCY: Import Administration, International Trade Administration, Department of Commerce.

FOR FURTHER INFORMATION CONTACT: Jennifer Meek at (202) 482-2778; AD/CVD Operations, Office 1, Import Administration, International Trade Administration, U.S. Department of Commerce, 14th Street and Constitution Avenue NW, Washington, DC 20230.

SUPPLEMENTARY INFORMATION:

Background

On October 7, 2011, the Department of Commerce (“Department”) published the preliminary results of the administrative review of the countervailing duty order on certain kitchen appliance shelving and racks from the People's Republic of China, covering the period January 7, 2009, through December 31, 2009. See Certain Kitchen Appliance Shelving and Racks From the People's Republic of China: Preliminary Results of the Countervailing Duty Administrative Review, 76 FR 62364 (October 7, 2011) (“Preliminary Results”). In the Preliminary Results we stated that we would issue our final results for the countervailing duty administrative review no later than 120 days after the date of publication of the Preliminary Results. See Preliminary Results, 76 FR at 62373.

Statutory Time Limits

Section 751(a)(3)(A) of the Tariff Act of 1930, as amended (“the Act”), requires the Department to issue the final results of an administrative review within 120 days of the publication of the Preliminary Results. If it is not practicable to complete the review within the time period, section 751(a)(3)(A) of the Act allows the Department to extend this deadline to a maximum of 180 days.

Extension of Time Limits for Final Results

The Department has determined that completion of the final results of this review within the original time period (i.e., by February 4, 2012) is not practicable. The Department needs additional time to conduct a post-preliminary analysis of certain subsidy programs. See Preliminary Results, 76 FR at 62370, 62372. Therefore, the Department is extending the time limit for completion of the final results to not later than April 4, 2012, which is 180 days from the date of publication of the Preliminary Results, in accordance with section 751(a)(3)(A) of the Act.

We are issuing and publishing this notice in accordance with sections 751(a) and 777(i)(1) of the Act.

Dated: December 27, 2011.
Gary Taverman,
Acting Deputy Assistant Secretary for Antidumping and Countervailing Duty Operations.

[FR Doc. 2011-33672 Filed 12-30-11; 8:45 am]

BILLING CODE 3510-DS-P